POSTAL REGULATORY COMMISSION

Briefing on Industry Service Tracking System

AGENCY: Postal Regulatory Commission.

ACTION: Notice of briefing.

SUMMARY: Representatives from the Red Tag News Publications will present a briefing on Tuesday, July 24, 2007, beginning at 10 a.m., in the Postal Regulatory Commission's main conference room. The briefing will address service standard measurement for certain Periodicals mailings. The briefing is open to the public.

DATES: July 24, 2007.

ADDRESSES: Postal Regulatory Commission, 901 New York Avenue, NW., Suite 200, Washington, DC 20268-0001.

FOR FURTHER INFORMATION CONTACT: Ann C. Fisher, Chief of Staff, Postal Regulatory Commission, 202-789-6803.

Steven W. Williams,
Secretary.

[FR Doc. 07-3545 Filed 7-19-07; 8:45 am]

BILLING CODE 7710-FW-M